NUCLEAR REGULATORY COMMISSION

Final Regulatory Guide; Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 4 of Regulatory Guide 1.97, entitled “Criteria for Accident Monitoring Instrumentation for Nuclear Power Plants,” describes a method that the NRC staff considers acceptable for use in complying with the agency's regulations with respect to satisfying criteria for accident monitoring instrumentation in nuclear power plants. Specifically, the method described in this regulatory guide relates to General Design Criteria 13, 19, and 64, as set forth in Appendix A to Title 10, Part 50, of the Code of Federal Regulations (10 CFR part 50), “Domestic Licensing of Production and Utilization Facilities.” In addition, Subsection (2)(xix) of 10 CFR 50.34(f), “Additional TMI-Related Requirements,” requires operating reactor licensees to provide adequate instrumentation for use in monitoring plant conditions following an accident that includes core damage.

This revision of Regulatory Guide 1.97 represents an ongoing evolution in the nuclear industry's thinking and approaches with regard to accident monitoring systems for nuclear power plants. Specifically, this revision endorses (with certain clarifying regulatory positions specified in Section C of the revised guide) the “Criteria for Accident Monitoring Instrumentation for Nuclear Power Generating Stations,” which the Institute of Electrical and Electronics Engineers (IEEE) promulgated as IEEE Std. 497-2002.

This revised regulatory guide is intended for licensees of new nuclear power plants.¹ Previous revisions of this regulatory guide remain in effect for licensees of current operating reactors,¹ who are unaffected by this proposed revision. (See regulatory position #1 in Section C of the revised guide for information regarding the applicability of IEEE Std. 497-2002 for current operating reactors.)

¹ The terms “new nuclear power plant” and “new plant” refer to any nuclear power plant for which the licensee obtained an operating license after the NRC issued Revision 4 of Regulatory Guide 1.97. The terms “current operating reactor” and “current plant” refer to any nuclear power plant for which the licensee obtained an operating license before the NRC issued Revision 4 of Regulatory Guide 1.97.

The NRC previously solicited public comment on this revised guide by publishing a Federal Register notice (70 FR 49953) concerning Draft Regulatory Guide DG-1128 on August 25, 2005. Following the closure of the public comment period on October 14, 2005, the staff considered all stakeholder comments in the course of preparing Revision 4 of Regulatory Guide 1.97. The staff's responses to all comments received are available in the NRC's Agencywide Documents Access and Management System (ADAMS) at http://www.nrc.gov/reading-rm/adams.html, under Accession #ML061580516.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Revision 4 of Regulatory Guide 1.97 may be directed to Barry S. Marcus at (301) 415-2823 or BSM@nrc.gov.

Regulatory guides are available for inspection or downloading through the NRC's public Web site in the Regulatory Guides document collection of the NRC's Electronic Reading Room at http://www.nrc.gov/reading-rm/doc-collections/. Electronic copies of Revision 4 of Regulatory Guide 1.97 are also available in the NRC's Agencywide Documents Access and Management System (ADAMS) at http://www.nrc.gov/reading-rm/adams.html, under Accession #ML061580448.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 19th day of June, 2006.
For the U.S. Nuclear Regulatory Commission.
Brian W. Sheron,
Director, Office of Nuclear Regulatory Research.

[FR Doc. E6-10908 Filed 7-11-06; 8:45 am]

BILLING CODE 7590-01-P